DEPARTMENT OF HOMELAND SECURITY

Coast Guard

33 CFR Part 117

[Docket No. USCG-2016-0632]

Drawbridge Operation Regulation; Mianus River, Greenwich, CT

AGENCY: Coast Guard, DHS.

ACTION: Notice of deviation from drawbridge regulation.

SUMMARY: The Coast Guard has issued a temporary deviation from the operating schedule that governs the Metro-North Bridge across the Mianus River, mile 1.0, at Greenwich, Connecticut. This deviation is necessary to allow the bridge owner to perform superstructure repairs and replace timber ties.

DATES: This deviation is effective from 8 a.m. on September 12, 2016 to 8 a.m. on September 26, 2016.

ADDRESSES: The docket for this deviation, [USCG-2016-0632] is available at http://www.regulations.gov. Type the docket number in the “SEARCH” box and click “SEARCH”. Click on Open Docket Folder on the line associated with this deviation.

FOR FURTHER INFORMATION CONTACT: If you have questions about this temporary deviation, call or email Judy Leung-Yee, Project Officer, First Coast Guard District, telephone (212) 514-4330, email judy.k.leung-yee@uscg.mil.

SUPPLEMENTARY INFORMATION: The Metro-North Bridge, mile 1.0, across the Mianus River, has a vertical clearance in the closed position of 20 feet at mean high water and 27 feet at mean low water. The existing bridge operating regulations are found at 33 CFR 117.209.

The waterway is transited by seasonal recreational traffic.

Connecticut DOT, the owner of the bridge, requested a temporary deviation from the normal operating schedule to perform steel repairs and replace timber ties.

Under this temporary deviation, the Metro-North Bridge will operate according to the schedule below:

a. From September 12, 2016 8 a.m. to September 16, 2016 4 a.m. the bridge will not open to marine traffic.

b. From September 16, 2016 4 a.m. to September 19, 2016 8 a.m. the bridge will open fully on signal upon 24 hour advance notice.

c. From September 19, 2016 8 a.m. to September 23, 2016 4 a.m. the bridge will not open to marine traffic.

d. From September 23, 2016 4 a.m. to September 26, 2016 8 a.m. the bridge will open fully on signal upon 24 hour advance notice.

Vessels able to pass under the bridge in the closed position may do so at any time. The bridge will not be able to open for emergencies and there is no immediate alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: July 12, 2016.
C.J. Bisignano,
Supervisory Bridge Management Specialist, First Coast Guard District.

[FR Doc. 2016-16775 Filed 7-14-16; 8:45 am]

BILLING CODE 9110-04-P